DEPARTMENT OF TRANSPORTATION

Federal Aviation Administration

Notice of Intent To Rule on Application 02-02-C-00-BFD To Impose, and Impose and Use the Revenue From a Passenger Facility Charge (PFC) at Bradford Regional Airport, Bradford, PA

AGENCY: Federal Aviation Administration (FAA), DOT.

ACTION: Notice of intent to rule on application.

SUMMARY: The FAA proposes to rule and invites public comment on the application to impose, and impose and use, the revenue from a PFC at Bradford Regional Airport under the provisions of the Aviation Safety and Capacity Expansion Act of 1990 (Title IX of the Omnibus Budget Reconciliation Act of 1990) (Public Law 101-508) and Part 158 of the Federal Aviation Regulations (14 CFR part 158).

DATES: Comments must be received on or before October 24, 2002.

ADDRESSES: Comments on this application may be mailed or delivered in triplicate to the FAA at the following address: Ms. Sharon Daboin/Manager HAR-ADO, FAA, Airports District Office, 3905 Hartzdale Drive, Suite 508, Camp Hill, PA 17011.

In addition, one copy of any comments submitted to the FAA must be mailed or delivered to Tom Frungillo, Airport Manager of the Bradford Regional Airport Authority at the following address: Star Route Box 176, Lewis Run, PA 16738.

Air carriers and foreign air carriers may submit copies of written comments previously provided to the Bradford Regional Airport Authority under section 158.23 of Part 158.

FOR FURTHER INFORMATION CONTACT: Lori Ledebohm/Planner, Airports District Office, 3905 Hartzdale Drive, Suite 508 Camp Hill, PA 17011, 717-730-2835. The application may be reviewed in person at this same location.

SUPPLEMENTARY INFORMATION: The FAA proposes to rule and invites public comment on the application to impose, and impose and use the revenue from a PFC at Bradford Regional Airport under the provisions of the Aviation Safety and Capacity Expansion Act of 1990 (Title IX of the Omnibus Budget Reconciliation Act of 1990) (Public Law 101-508) and Part 158 of the Federal Aviation Regulations (14 CFR part 158).

On August 19, 2002, the FAA determined that the application to impose, and impose and use the revenue from a PFC submitted by Bradford Regional Airport Authority was substantially complete within the requirements of section 158.25 of Part 158. The FAA will approve or disapprove the application, in whole or in part, no later than November 14, 2002.

The following is a brief overview of the application.

PFC Application No.: 02-02-C-00-BFD.

Level of the proposed PFC: $4.50.

Proposed charge effective date: May 1, 2003.

Proposed charge expiration date: December 31, 2009.

Total estimated PFC revenue: $414,738.00.

Brief description of proposed project(s):

Impose and Use

—Passenger Chairlift

—T-hanger TWY & Drainage Swale

—Runway 5-23 Lighting

—Parallel TWY Runway 32 Phase I

—Water Treatment Plant Upgrade

—Parallel TWY Runway 14 Phase II

—Airport Master Plan

—Rehabilitate TWY A and B

—Rehabilitate T-Hanger Taxiway

—Acquire Multi Purpose Safety Vehicle

—Conduct 5 Year E.A.

—Rehabilitate Runway 5-23/Improve RSA

—Acquire Snow Removal Equipment

—Acquire Snow Plow

—PFC Application/Formulation Impose Only

—Deicing Facility/Equipment

—Rehabilitate Access Road

—Land Acquisition/Obstruction Removal

—RSA Phase II

Class or classes of air carriers which the public agency has requested not be required to collect PFCs: Air Taxi/Commercial Operators filing FAA Form 1800-31.

Any person may inspect the application in person at the FAA office listed above under FOR FURTHER INFORMATION CONTACT and the FAA regional airports office located at: Eastern Region, Airports Division, AEA-610, 1 Aviation Plaza, Jamaica, New York, 11443.

In addition, any person may, upon request, inspect the application, notice and other documents germane to the application in person at the Bradford Regional Airport Authority.

Issued in Camp Hill, Pennsylvania; on September 16, 2002.
John Carter,
Acting Manager, HARADO, Eastern Region.

[FR Doc. 02-24243 Filed 9-23-02; 8:45 am]

BILLING CODE 4910-15-M